DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 84 FR 14739-14381, dated April 10, 2019) is amended to reflect the reorganization of the Office of the Associate Director for Policy and Strategy, Office of the Director, Centers for Disease Control and Prevention. This reorganization abolishes the Office of Health System Collaboration and establishes the Office of Population Health and Healthcare.

Section C-B, Organization and Functions, is hereby amended as follows:

Delete in its entirety the functional statement for the Office of the Associate Director for Policy and Strategy (CAQ), and insert the following:

Office of the Associate Director for Policy and Strategy (CAQ). The mission of CDC's Office of the Associate Director for Policy and Strategy (OADPS) is to bring about, define and evaluate policies and strategies that result in demonstrable improvements in public health—globally and at the federal, state, and local levels. In carrying out its mission, OADPS: (1) Provides advice to CDC leadership in developing agency policies, programs, and strategies; (2) creates and maintains partnerships to implement policies, programs, and strategies; (3) monitors and evaluates programs to improve the public's health; and (4) ensures the agency's scientific credibility, reputation, and needs are respected and supported by policy makers, program partners, and stakeholders.

Delete in its entirety the functional statement for the Office of the Director (CAQ1), and insert the following:

Office of the Director (CAQ1). (1) Provides strategic advice to CDC leadership on agency direction and drives CDC towards actions to reduce leading preventable causes of morbidity and mortality; (2) ensures effectiveness of policy, program, performance, and strategy across the agency; (3) builds capacity throughout CDC for policy, program, performance, and strategy; (4) leads the development and management of policy and programmatic agendas with federal agencies and other organizations; (5) establishes and maintains strategic partnerships with key organizations and individuals working on public health policies and programs.

Delete in its entirety the title and functional statement for the Office of Health System Collaboration (CAQ12).

Delete in its entirety the functional statement for the Policy Research, Analysis, and Development Office (CAQB), and insert the following:

Policy Research, Analysis, and Development Office (CAQB). (1) Identifies and assists CDC leadership in informing policy at multiple levels (e.g., federal, state, local, global, and private sector); (2) gathers and disseminates knowledge about statutes, regulations, and sub-regulatory guidance that can increase the policy impact of CDC programs; (3) conducts analyses, including regulatory, legal, and economic and develops strategies for CDC policy priorities; (4) supports policy implementation through the provision of expertise, guidance, reviews, and tools; (5) monitors and evaluates the impact of CDC policies; (6) builds policy analysis and development capacity within CDC and the larger public health community; (7) leads CDC's public health policy research agenda; (8) manages selected partner cooperative agreements and contracts that focus on policy; and (9) incubates innovative programs that emerge from policy priorities identified by CDC leadership.

Delete in its entirety the Program Performance and Evaluation Office (CAQD) and insert the following:

Program Performance and Evaluation Office (CAQD). (1) Serves as an advisor to CDC leadership on program effectiveness to guide science, policy, and programmatic efforts; (2) provides agency-wide direction, standards, and technical assistance for program planning, performance and accountability; (3) supports the harmonization of performance measurement, accountability, and program evaluation; (4) guides the collection and analysis of economic, performance, and accountability data; (5) facilitates continuous improvement based on program evaluation and performance measurement; (6) manages the CDC evaluation fellowship; (7) provides economic evaluation support to CDC leadership; (8) drives short-term and long-term strategic program planning; (9) supports evidence-driven program design with expertise, analyses, and tools; (10) promotes standardization of shared programmatic activities to improve efficiency; (11) coordinates action planning for high impact initiatives; and (12) facilitates information sharing and collaboration between programs and CDC leadership.

After the functional statement for the Program Performance and Evaluation Office (CAQD), insert the following:

Office of Population Health and Healthcare (CAQE). (1) Engages multi-sectoral partners (e.g., private sector, non-profit, transportation, housing, healthcare providers and insurance plans, foundations) to create collaborative opportunities that improve health outcomes; (2) uses data, subject matter expertise and convening power to inform the development of policies, programs and tools; (3) provides agency wide guidance on approaches and partners that can help achieve CDC aims; (4) builds capacity to use CDC data analysis and interpretation expertise to explore gaps in health outcomes and develop population health/healthcare solutions; and (5) creates linkages and synergies between CDC programs to maximize population health impact.

Sherri A. Berger,
Chief Operating Officer, Centers for Disease Control and Prevention.

[FR Doc. 2019-11548 Filed 6-3-19; 8:45 am]

BILLING CODE 4160-18-P